DEPARTMENT OF LABOR

Employment and Training Administration

[TA-W-59,990]

Honeywell Security and Custom Electronics, a Subsidiary of Honeywell International, Inc., Currently Known as Honeywell Security an Unincorporated Division of Honeywell International, Inc., Syosset, NY, Now Located in Melville, NY; Amended Certification Regarding Eligibility to Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on September 19, 2006, applicable to workers of Honeywell Security and Custom Electronics, a subsidiary of Honeywell International, Inc., Syosset, New York. The notice was published in the Federal Register October 2, 2006 (71 FR 58012). The certification was previously amended on September 27, 2006 to include the Ademco name and to correct the impact date. The notice was published in the Federal Register on October 4, 2006 (71 FR 58632)

At the request of the State agency, the Department reviewed the certification for workers of the subject firm. The workers are engaged in the production of alarm device equipment.

New information shows that following a corporate decision, the subject firm is currently known as Honeywell Security, an unincorporated division of Honeywell International, Inc. Information also shows that in June 2007, the subject firm previously located in Syosset, New York has relocated to Melville, New York.

Accordingly, the Department is amending this certification to correct the subject firm name and to reflect the new location Melville, New York.

The intent of the Department's certification is to include all workers of Honeywell Security and Custom Electronics, a subsidiary of Honeywell International, Inc., currently known as Honeywell Security, an unincorporated division of Honeywell International, Inc., who were adversely affected a shift in production to Mexico.

The amended notice applicable to TA-W-59,990 is hereby issued as follows:

“All workers of Honeywell Security and Custom Electronics, a subsidiary of Honeywell International, Inc., currently known as Honeywell Security, an unincorporated division of Honeywell International, Inc., Syosset, New York, now located in Melville, New York, who became totally or partially separated from employment on or after January 7, 2006, through September 19, 2008, are eligible to apply for adjustment assistance under section 223 of the Trade Act of 1974 and are also eligible to apply for alternative trade adjustment assistance under section 246 of the Trade Act of 1974.”

Signed at Washington, DC, this 11th day of September 2007.
Elliott S. Kushner,
Certifying Officer, Division of Trade Adjustment Assistance.

[FR Doc. E7-18614 Filed 9-20-07; 8:45 am]

BILLING CODE 4510-FN-P